DEPARTMENT OF AGRICULTURE

National Agricultural Statistics Service

Discontinuance of Information Collections

AGENCY: National Agricultural Statistics Service, USDA.

ACTION: Notice.

SUMMARY: This notice announces the National Agricultural Statistics Service (NASS) has discontinued the information collection for both the Mink Survey (OMB Control Number 0535-0212) and the Agricultural Labor Survey (OMB Control Number 0535-0109), as these collections are deemed duplicative and/or no longer necessary. This action is taken under the provisions of the Paperwork Reduction Act (PRA) as part of the government's efforts to improve efficiency and eliminate unnecessary burdens.

DATES: The discontinuation date for both collections is August 2025.

FOR FURTHER INFORMATION CONTACT: Jody McDaniel, Acting Associate Administrator, National Agricultural Statistics Service, U.S. Department of Agriculture, (202) 720-2707. Copies of this information collection and related instructions can be obtained without charge from Margaret Noonan, NASS—OMB Clearance Officer, at (202) 720-2206 or at ombofficer@nass.usda.gov.

SUPPLEMENTARY INFORMATION:

I. Mink Survey

Title: Mink Survey. OMB Control Number: 0535-0212.

Abstract: Since 1970, NASS has annually collected data related to minks, including pelt production, females bred, and sales. This collection, previously important for understanding the U.S. mink industry, has been discontinued with approval from the Office of Management and Budget (OMB).

Discontinuation Justification:USDA found the discontinuation of the survey was justified for each of the following reasons:

No statutory requirement: The USDA is not required by statute to conduct or publish the Mink Survey, nor has it always done so annually.

Availability of other data sources: While some persons may have elected to use the survey data, it is not necessary for the USDA to carry out its statutory obligations. For those who may have found the data valuable, the Census of Agriculture—conducted every five years—includes questions on the number of live mink and pelts sold, ensuring this information is still collected regularly.

Industry Decline: The U.S. mink industry has significantly decreased in size since the survey's inception. In 1969, 5,455,000 pelts were produced, which dropped to just 771,200 in 2024. The geographic distribution of production has also narrowed, with state-level data now publishable for only five states, down from 15 in 1970.

USDA has determined it is not required or prudent to conduct the mink survey and has discontinued information collection for OMB Control Number 0535-0212.

II. Agricultural Labor Survey (FLS)

Title: Agricultural Labor Survey (FLS).

OMB Control Number: 0535-0109.

Abstract: For decades, NASS conducted the Agricultural Labor Survey (FLS) to measure farm wages nationally. The USDA has now discontinued this survey, with approval from the OMB, as recent improvements to the Department of Labor (DOL) Bureau of Labor Statistics Occupational Employment and Wage Statistics (OEWS) program make the OEWS the superior barometer for measuring farm wages.

Discontinuation Justification: USDA found the discontinuation of the survey is justified for each of the following reasons:

No statutory requirement: Although USDA has used FLS data for various actions in the past, those purposes can be fulfilled by relying on other available sources of data, such as the OEWS program. This would minimize duplication of Federal efforts and reduce cost and time burdens to the public.

Availability of other data sources: The OEWS will provide more useful data: The FLS is a dated survey, whose origins trace to the 19th century. The FLS was not designed for the current state of agriculture or labor.

The FLS only collects information directly from farmers and does not capture information from farm labor contractors. Given the shortage of domestic labor and the complex process to navigate visa programs for foreign workers, more and more farmers rely on farm labor contractors to supply their workforce. Data from farm labor contractors is collected by the OEWS. This is one of several reasons why the OEWS has surpassed the FLS as the best available tool for measuring farm wages on a nationwide basis.

The supporting statement included in the Paperwork Reduction Act (PRA) Information Collection Request package for the FLS, submitted to OMB on July 25, 2024, noted that the Agriculture Adjustment Act of 1938 requires USDA to compute parity prices of farm products. To compute these parity prices, USDA uses an index of prices paid by farmers which is composed of five indexes, one of which is an index of wage rates. Historically, USDA has used FLS data as the information source for the index of wage rates; however, USDA will use enhanced OEWS data as the source for this index.

The 2024 supporting statement at p. 1 also refers to the DOL's use of FLS data in calculating a government-mandated minimum wage rate when foreign temporary labor is employed pursuant to a visa program known as H-2A. DOL, however, has computed this rate, known as the Adverse Effect Wage Rate (AEWR), without the FLS in the past. To illustrate, DOL in rulemaking reported that the use of the FLS, coinciding with an increase in illegal immigration, had diminished its utility for AEWR purposes: “The Department chose at that time to use USDA data to set AEWRs largely because it believed that USDA's aggregation of wage data at broad regional levels would immunize the survey from the effects of any localized wage depression that might exist. 54 FR 28043. As discussed above, however, undocumented workers are substantially more dispersed throughout the agricultural sector today than they were in 1989. Not only are undocumented workers no longer confined to particularized local labor markets, but recent studies have also called into question whether the concentration of undocumented workers in particular labor markets actually causes localized wage depression. In light of these developments, the one key advantage the Department believed in 1989 was afforded by the USDA survey's broadly aggregated data—its ability to avoid localized wage depression effects—has been substantially diminished. On the other hand, the fact that undocumented workers have come to dominate the agricultural labor force in the intervening years has rendered the imprecision of USDA wage data vis-à-vis local labor market conditions a substantial drawback that may sometimes actually encourage employers to hire undocumented workers. In fact, the Department expressed concern in the 1989 rulemaking that precisely this phenomenon might develop, stating that “AEWRs, if set too high, might be a disincentive to the use of H-2A workers and U.S. workers, and could undermine efforts to eradicate the employment of illegal aliens. 54 FR 28044. Many commenters argued that the large numbers of undocumented workers in the agricultural sector adversely affects U.S. workers. Temporary Agricultural Employment of H-2A Aliens in the United States; Modernizing the Labor Certification Process and Enforcement, 73 FR 77172-77173 (Dec. 18, 2008).

For a brief period beginning in 2008, until a change in the administration, DOL then engaged in rulemaking to replace its use of the FLS data with the DOL's OEWS data:

(g) The Department's Decision To Use the Occupational Employment Statistics Survey

Having determined that the Department [of Labor] can best safeguard the wages and working conditions of U.S. workers from adverse effect by encouraging employers to replace undocumented workers with either U.S. workers or H-2A workers, and having further determined that tailoring AEWRs to local labor market conditions is the best way to foster this replacement process, the Department made two independent decisions. First, the Department decided to use the BLS OES survey to set AEWRs, rather than the USDA Farm Labor Survey (FLS). Second, the Department decided to attain further precision in setting AEWRs by breaking the OES wage rates down into four different skill levels, rather than using a single average OES wage rate for each agricultural occupation. 73 FR 77173 (emphasis added).

The 2024 supporting statement at p. 1 also notes that the FLS had been funded by DOL (reflecting USDA's determination that the FLS was not needed), but after 2021 DOL discontinued funding the FLS.

Further, in 2023 rulemaking, DOL reported that the FLS did not capture wages for all occupations and some states lacked FLS data. 88 FR 12760, (Feb. 28, 2023). DOL thus approved and provided for the use of its OEWS data to calculate the AEWR if FLS data is not available. Id. DOL thus confirmed that it can employ its OEWS as a substitute for the FLS.

USDA is not required by statute to rely on the FLS to collect data measuring farm labor wages. USDA has determined it is not required or prudent to conduct the FLS and has discontinued information collection for OMB Control Number 0535-0109. USDA's scarce resources must be reallocated to activities that are required by statute and useful to the Department and its customers. Substitutes like DOL's OEWS are available to supplant the FLS to the extent other agencies use the data for purposes other than that for which it was originally conceived in the 19th century. To the extent any request is received for legacy data, USDA will work to make FLS legacy data available as much as possible.

Jody McDaniel,
Acting Associate Administrator, National Agricultural Statistics Service.

[FR Doc. 2025-16831 Filed 8-29-25; 11:15 am]

BILLING CODE 3410-20-P